FEDERAL MARITIME COMMISSION

Ocean Transportation Intermediary License Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR part 515.

License No. | Name/address | Date reissued
000479F | Barian Shipping Company Inc., 910 Railroad Avenue, Woodmere, NY 11598 | September 9, 2004.
004447N | Bestway Shipping, Inc., 269 E. Redondo Beach Blvd., Gardena, CA 90248 | October 3, 2004.
004462F | R S Exports, Inc., 11914 Aviation Blvd., #A, Inglewood, CA 90304 | August 27, 2004.
003009NF | Super Freight International, Inc., 650 N. Edgewood Avenue, Wood Dale, IL 60191 | June 12, 2004.
004395NF | Superior Link International, Inc., 380 S. Lemon Avenue, Suite B1-G, Walnut, CA 91789 | September 27, 2004.
016956N | Worldwide Group, Inc., dba World Trans Line, 14928 S. Figueroa Street, Gardena, CA 90248 | October 1, 2004.

Sandra L. Kusumoto,
Director, Bureau of Certification and Licensing.

[FR Doc. 04-25159 Filed 11-10-04; 8:45 am]

BILLING CODE 6730-01-P